DEPARTMENT OF COMMERCE

International Trade Administration

[A-583-837]

Polyethylene Terephthalate Film, Sheet and Strip from Taiwan: Partial Rescission of the Antidumping Duty Administrative Review

AGENCY: Import Administration, International Trade Administration, Department of Commerce.

DATES: Effective Date: December 28, 2012.

FOR FURTHER INFORMATION CONTACT: Sean Carey or Milton Koch, Import Administration, International Trade Administration, U.S. Department of Commerce, 14th Street and Constitution Avenue NW., Washington, DC 20230; telephone: (202) 482-3964 or (202) 482-2584, respectively.

Background

On July 2, 2012, the Department of Commerce (Department) published a notice of opportunity to request an administrative review of the antidumping duty (AD) order on polyethylene terephthalate film, sheet and strip from Taiwan covering the period July 1, 2011, through June 30, 2012.¹ The Department received a timely request for an AD administrative review from Petitioners ² for two companies: Shinkong Materials Technology Corporation (Shinkong), and Nan Ya Plastics Corporation (Nan Ya). On August 30, 2012, the Department published a notice of initiation of administrative review with respect to Nan Ya and Shinkong.³ On September 26, 2012, DuPont Teijin Films, one of the petitioners who requested the review, withdrew its request for an administrative review of Nan Ya and Shinkong. On November 30, 2012, Mitsubishi Polyester Film, Inc., SKC Inc., and Toray Plastics withdrew the remaining request for an administrative review of Nan Ya.

¹ See Antidumping or Countervailing Duty Order, Finding, or Suspended Investigation; Opportunity To Request Administrative Review, 77 FR 39216, 39217 (July 2, 2012).

² Petitioners are DuPont Teijin Films, Mitsubishi Polyester Film, Inc., SKC, Inc. and Toray Plastics (America), Inc.

³ See Initiation of Antidumping and Countervailing Duty Administrative Reviews and Requests for Revocation in Part, 77 FR 52688 (August 30, 2012).

Rescission, In Part

Pursuant to 19 CFR 351.213(d)(1), the Secretary will rescind an administrative review, in whole or in part, if a party that requested the review withdraws the request within 90 days of the date of publication of the notice of initiation of the requested review. Petitioners' withdrawal requests were timely submitted within the 90-day period.⁴ As the withdrawal letters filed by Petitioners are timely and no other party requested a review of Nan Ya, we are rescinding this review with respect to Nan Ya, in accordance with 19 CFR 351.213(d)(1). Because the review request for Shinkong was not withdrawn by Mitsubishi Polyester Film, Inc., SKC, Inc., and Toray Plastics, Inc., the Department will continue to conduct the AD administrative review of Shinkong.

⁴ The 90th day fell on November 28, 2012; however, as explained in the memorandum from the Assistant Secretary for Import Administration, the Department has exercised its discretion to toll deadlines for the duration of the closure of the Federal Government from October 29, through October 30, 2012. Thus, all deadlines in this segment of the proceeding have been extended by two days. The revised deadline for withdrawing a review request was therefore, November 30, 2012. See Memorandum to the Record from Paul Piquado, Assistant Secretary for Import Administration, regarding “Tolling of Administrative Deadlines As a Result of the Government Closure During the Recent Hurricane” (October 31, 2012).

Assessment

The Department will instruct U.S. Customs and Border Protection (CBP) to assess antidumping duties on all appropriate entries. Nan Ya shall be assessed antidumping duties at rates equal to the cash deposit of estimated antidumping duties required at the time of entry, or withdrawal from warehouse, for consumption, in accordance with 19 CFR 351.212(c)(1)(i). The Department intends to issue appropriate assessment instructions directly to CBP 15 days after publication of this notice.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: December 20, 2012.
Christian Marsh,
Deputy Assistant Secretary for Antidumping and Countervailing Duty Operations.

[FR Doc. 2012-31320 Filed 12-27-12; 8:45 am]

BILLING CODE 3510-DS-P